DEPARTMENT OF AGRICULTURE

Forest Service

Olympic Provincial Advisory Committee

AGENCY: Forest Service, USDA.

ACTION: Notice of Meeting.

SUMMARY: The Olympic Province Advisory Committee (OPAC) will meet on Friday, May 21, 2004. The meeting will be held at the DNR/Forest Service Conference Room, 437 Tillicum Lane, Forks, Washington. The meeting will begin at 9:30 a.m. and end at approximately 3:30 p.m. Agenda topics are: Current status of key Forest issues; Off-Road Vehicle Management; Title II Project Update; Ecology of Marbled Murrlet on Olympic Peninsula; Olympic Natural Resource Center Research Update; Open forum; and Public comments.

All Olympic Province Advisory Committee Meetings are open to the public. Interested citizens are encouraged to attend.

FOR FURTHER INFORMATION CONTACT: Direct questions regarding this meeting to Ken Eldredge, Province Liaison, USDA, Olympic National Forest Headquarters, 1835 Black Lake Blvd. Olympia, WA 98512-5623, (360) 956-2323 or Dale Hom, Forest Supervisor, at (360) 956-2301.

Dated: April 29, 2004.
Dale Hom,
Forest Supervisor, Olympic National Forest.

[FR Doc. 04-10167 Filed 5-4-04; 8:45 am]

BILLING CODE 3410-11-M